DEPARTMENT OF LABOR

Employment & Training Administration

[SGA/DFA-PY-08-20]

Solicitation for Grant Applications (SGA) Amendment One; State Energy Sector Partnership (SESP) and Training Grants

AGENCY: Employment and Training Administration (ETA, Labor).

ACTION: Notice: Amendment to SGA/DFA-PY-08-20.

SUMMARY: The Employment and Training Administration published a document in the Federal Register on June 24, 2009, announcing the availability of funds and solicitation for grant applications (SGA) for State Energy Sector Partnership (SESP) and Training Grants to be awarded through a competitive process. This notice is the first amendment to the SGA and clarifies items related to: (1) Updated Attachment 1—Counties Impacted by Automotive-Related Restructuring; (2) the number of parts to the technical proposal (Section IV: Application and Submission Information, Part 2 Technical Proposal); (3) the number of sub criteria to the Strategy and Project Work Plan criteria in Section V.A.3); (4) participants eligible to receive training (Section III.D.1); and, (5) Section B on Green Industries and Occupations (Supplementary Information). The document is hereby amended.

1. Attachment I—Counties Impacted by Automotive Restructuring. This notice replaces “Attachment I” as referenced on p. 30127-30128, which is a list of 281 counties impacted by automotive-related restructuring from the Center for Automotive Research. In addition to the 281 counties, an additional 31 counties have been included on the list due to an inadvertent omission on the original list. This is the complete and final list and there will be no further changes to this list. Accordingly, the “old” Attachment I on p. 30127-30128 is being replaced by the “new” Attachment I below:

Attachment I—Counties Impacted by Automotive-Related Restructuring
FIPS | County name | State
1013 | Butler | AL
1021 | Chilton | AL
1083 | Limestone | AL
1085 | Lowndes | AL
1089 | Madison | AL
1095 | Marshall | AL
1101 | Montgomery | AL
1121 | Talladega | AL
1125 | Tuscaloosa | AL
5023 | Cleburne | AR
5041 | Desha | AR
5055 | Greene | AR
5083 | Logan | AR
6001 | Alameda | CA
6037 | Los Angeles | CA
10003 | New Castle | DE
13089 | DeKalb | GA
13121 | Fulton | GA
13139 | Hall | GA
13143 | Haralson | GA
13167 | Johnson | GA
13285 | Troup | GA
19029 | Cass | IA
19037 | Chickasaw | IA
19071 | Fremont | IA
19089 | Howard | IA
19095 | Iowa | IA
19115 | Louisa | IA
19149 | Plymouth | IA
19157 | Poweshiek | IA
19175 | Union | IA
19197 | Wright | IA
17007 | Boone | IL
17025 | Clay | IL
17031 | Cook | IL
17047 | Edwards | IL
17067 | Hancock | IL
17121 | Marion | IL
17113 | McLean | IL
17155 | Putnam | IL
17187 | Warren | IL
17189 | Washington | IL
17191 | Wayne | IL
18001 | Adams | IN
18003 | Allen | IN
18005 | Bartholomew | IN
18009 | Blackford | IN
18015 | Carroll | IN
18017 | Cass | IN
18025 | Crawford | IN
18033 | De Kalb | IN
18031 | Decatur | IN
18035 | Delaware | IN
18037 | Dubois | IN
18039 | Elkhart | IN
18041 | Fayette | IN
18045 | Fountain | IN
18047 | Franklin | IN
18051 | Gibson | IN
18053 | Grant | IN
18059 | Hancock | IN
18061 | Harrison | IN
18065 | Henry | IN
18067 | Howard | IN
18071 | Jackson | IN
18075 | Jay | IN
18077 | Jefferson | IN
18081 | Johnson | IN
18087 | Lagrange | IN
18093 | Lawrence | IN
18097 | Marion | IN
18103 | Miami | IN
18107 | Montgomery | IN
18113 | Noble | IN
18123 | Perry | IN
18133 | Putnam | IN
18135 | Randolph | IN
18143 | Scott | IN
18147 | Spencer | IN
18141 | St. Joseph | IN
18149 | Starke | IN
18151 | Steuben | IN
18153 | Sullivan | IN
18157 | Tippecanoe | IN
18159 | Tipton | IN
18175 | Washington | IN
18179 | Wells | IN
18183 | Whitley | IN
20001 | Allen | KS
20209 | Wyandotte | KS
21003 | Allen | KY
21009 | Barren | KY
21017 | Bourbon | KY
21023 | Bracken | KY
21031 | Butler | KY
21033 | Caldwell | KY
21041 | Carroll | KY
21043 | Carter | KY
21055 | Crittenden | KY
21057 | Cumberland | KY
21069 | Fleming | KY
21073 | Franklin | KY
21075 | Fulton | KY
21077 | Gallatin | KY
21081 | Grant | KY
21093 | Hardin | KY
21099 | Hart | KY
21101 | Henderson | KY
21103 | Henry | KY
21107 | Hopkins | KY
21111 | Jefferson | KY
21113 | Jessamine | KY
21121 | Knox | KY
21123 | Larue | KY
21137 | Lincoln | KY
21151 | Madison | KY
21155 | Marion | KY
21167 | Mercer | KY
21169 | Metcalfe | KY
21173 | Montgomery | KY
21179 | Nelson | KY
21183 | Ohio | KY
21191 | Pendleton | KY
21199 | Pulaski | KY
21207 | Russell | KY
21209 | Scott | KY
21211 | Shelby | KY
21213 | Simpson | KY
21221 | Trigg | KY
21227 | Warren | KY
21229 | Washington | KY
22017 | Caddo | LA
24510 | Baltimore (city) | MD
24043 | Washington | MD
26009 | Antrim | MI
26017 | Bay | MI
26025 | Calhoun | MI
26045 | Eaton | MI
26049 | Genesee | MI
26059 | Hillsdale | MI
26063 | Huron | MI
26065 | Ingham | MI
26067 | Ionia | MI
26069 | Iosco | MI
26075 | Jackson | MI
26079 | Kalkaska | MI
26081 | Kent | MI
26087 | Lapeer | MI
26091 | Lenawee | MI
26093 | Livingston | MI
26099 | Macomb | MI
26107 | Mecosta | MI
26111 | Midland | MI
26113 | Missaukee | MI
26115 | Monroe | MI
26125 | Oakland | MI
26127 | Oceana | MI
26133 | Osceola | MI
26135 | Oscoda | MI
26139 | Ottawa | MI
26143 | Roscommon | MI
26145 | Saginaw | MI
26147 | St. Clair | MI
26149 | St. Joseph | MI
26157 | Tuscola | MI
26159 | Van Buren | MI
26161 | Washtenaw | MI
26163 | Wayne | MI
26165 | Wexford | MI
27029 | Clearwater | MN
27123 | Ramsey | MN
29047 | Clay | MO
29061 | Daviess | MO
29079 | Grundy | MO
29105 | Laclede | MO
29113 | Lincoln | MO
29147 | Nodaway | MO
29175 | Randolph | MO
29183 | St. Charles | MO
29189 | St. Louis | MO
29229 | Wright | MO
28009 | Benton | MS
28011 | Bolivar | MS
28051 | Holmes | MS
28089 | Madison | MS
28119 | Quitman | MS
28129 | Smith | MS
28145 | Union | MS
28161 | Yalobusha | MS
37063 | Durham | NC
37071 | Gaston | NC
37089 | Henderson | NC
37145 | Person | NC
37165 | Scotland | NC
38051 | McIntosh | ND
31019 | Buffalo | NE
31047 | Dawson | NE
31051 | Dixon | NE
31141 | Platte | NE
31159 | Seward | NE
34023 | Middlesex | NJ
34039 | Union | NJ
36029 | Erie | NY
36063 | Niagara | NY
36067 | Onondaga | NY
36089 | St. Lawrence | NY
39001 | Adams | OH
39003 | Allen | OH
39011 | Auglaize | OH
39019 | Carroll | OH
39021 | Champaign | OH
39025 | Clermont | OH
39027 | Clinton | OH
39033 | Crawford | OH
39035 | Cuyahoga | OH
39039 | Defiance | OH
39043 | Erie | OH
39051 | Fulton | OH
39061 | Hamilton | OH
39063 | Hancock | OH
39065 | Hardin | OH
39069 | Henry | OH
39071 | Highland | OH
39077 | Huron | OH
39079 | Jackson | OH
39083 | Knox | OH
39091 | Logan | OH
39093 | Lorain | OH
39095 | Lucas | OH
39097 | Madison | OH
39113 | Montgomery | OH
39117 | Morrow | OH
39121 | Noble | OH
39125 | Paulding | OH
39131 | Pike | OH
39135 | Preble | OH
39137 | Putnam | OH
39139 | Richland | OH
39141 | Ross | OH
39143 | Sandusky | OH
39147 | Seneca | OH
39149 | Shelby | OH
39153 | Summit | OH
39155 | Trumbull | OH
39159 | Union | OH
39161 | Van Wert | OH
39169 | Wayne | OH
39171 | Williams | OH
39173 | Wood | OH
39175 | Wyandot | OH
40095 | Marshall | OK
40109 | Oklahoma | OK
42003 | Allegheny | PA
42117 | Tioga | PA
45007 | Anderson | SC
45019 | Charleston | SC
45021 | Cherokee | SC
45035 | Dorchester | SC
45067 | Marion | SC
45083 | Spartanburg | SC
47001 | Anderson | TN
47003 | Bedford | TN
47007 | Bledsoe | TN
47009 | Blount | TN
47015 | Cannon | TN
47031 | Coffee | TN
47041 | DeKalb | TN
47045 | Dyer | TN
47051 | Franklin | TN
47053 | Gibson | TN
47055 | Giles | TN
47061 | Grundy | TN
47063 | Hamblen | TN
47065 | Hamilton | TN
47069 | Hardeman | TN
47073 | Hawkins | TN
47077 | Henderson | TN
47079 | Henry | TN
47087 | Jackson | TN
47097 | Lauderdale | TN
47099 | Lawrence | TN
47105 | Loudon | TN
47113 | Madison | TN
47117 | Marshall | TN
47119 | Maury | TN
47107 | McMinn | TN
47109 | McNairy | TN
47121 | Meigs | TN
47123 | Monroe | TN
47131 | Obion | TN
47133 | Overton | TN
47135 | Perry | TN
47141 | Putnam | TN
47143 | Rhea | TN
47147 | Robertson | TN
47149 | Rutherford | TN
47151 | Scott | TN
47159 | Smith | TN
47177 | Warren | TN
47185 | White | TN
48029 | Bexar | TX
48439 | Tarrant | TX
49003 | Box Elder | UT
51023 | Botetourt | VA
51710 | Norfolk (city) | VA
51155 | Pulaski | VA
51173 | Smyth | VA
51177 | Spotsylvania | VA
55059 | Kenosha | WI
55075 | Marinette | WI
55105 | Rock | WI
54079 | Putnam | WV

2. Section IV: Application and Submission Information, Part 2. Technical Proposal (page 30119) is revised to confirm the number of parts that are referenced in the technical proposal as follows:

a. Old Text—“Under the leadership of the State Workforce Investment Board, the SESP will develop a comprehensive Sector Plan that will serve as the technical proposal in response to this Solicitation. The Sector Plan will present the State's overall strategy for preparing workers in the energy efficiency and renewable energy industries and consists of four parts: (1) Statement of Need; (2) State Energy Sector Partnership; (3) Strategy and Work Plan; and (4) Implementation Timeline and Projected Outcomes. Applicants will be evaluated on the completeness and quality of their submissions. A full description of the criteria that will be used to evaluate each submission and points are awarded are outlined in section V.A.”

b. New Text—“Under the leadership of the State Workforce Investment Board, the SESP will develop a comprehensive Sector Plan that will serve as the technical proposal in response to this Solicitation. The Sector Plan will present the State's overall strategy for preparing workers in the energy efficiency and renewable energy industries and consists of five parts: (1) Statement of Need; (2) State Energy Sector Partnership; (3) Strategy and Work Plan; (4) Implementation Timeline and Projected Outcomes; and (5) Suitability for Evaluation. Applicants will be evaluated on the completeness and quality of their submissions. A full description of the criteria that will be used to evaluate each submission and points are awarded are outlined in section V.A.”

3. Section V.A.3, Application and Review Information, Evaluation Criteria (page 30122) is revised to clarify the number of sub-criteria in the Strategy and Project Work Plan as follows:

a. Old Text—“iii. Strong evidence that the applicant has the fiscal, administrative, and performance management capacity to effectively administer this grant. The applicant must fully describe its capacity to lead and manage the SESP, and oversee the local and regional project teams in order to successfully implement the State Energy Sector Plan.”

b. New Text—“iv. Strong evidence that the applicant has the fiscal, administrative, and performance management capacity to effectively administer this grant. The applicant must fully describe its capacity to lead and manage the SESP, and oversee the local and regional project teams in order to successfully implement the Sector Plan.”

4. Section III.D.1, Participants Eligible to Receive Training (page 30118) is revised to clarify that individuals with disabilities are among the populations that may be served. Accordingly, Section III.D.1 on p. 30118 is revised by replacing the language designated below as “old text” with the language designated as “new text”:

a. Old Text—“Other individuals, such as untapped labor pools and entry-level and incumbent workers that do not fit into the categories above, may also be served through these projects.”

b. Next Text—“Other individuals, such as untapped labor pools including individuals with disabilities and entry-level and incumbent workers that do not fit into the categories above, may also be served through these projects subject to the priority considerations given to the populations above and consistent with the populations to be served through the grantee's statements of work for their existing grant(s).”

5. Supplementary Information Section B “Green Industries and Occupations” on p. 30115 is revised to provide further information on the industries in which applicants may focus and includes the following statement:

a. New Text: We will also evaluate applications for projects that include emerging green occupations from industries that have not been discussed in this section.

FOR FURTHER INFORMATION CONTACT: Jeannette Flowers, Grants Management Specialist, Division of Federal Assistance, at (202) 693-3322 (this is not a toll-free number).

Signed at Washington, DC this 17th day of July, 2009.
Eric D. Luetkenhaus,
Grant Officer.

[FR Doc. E9-17456 Filed 7-22-09; 8:45 am]

BILLING CODE 4510-FN-P